DEPARTMENT OF THE INTERIOR

National Park Service

36 CFR Part 7

[NPS-CHAT-11887; PPSECHAT00; PPMPSPD1Z.YM0000]

RIN 1024-AD94

Special Regulations; Areas of the National Park System, Chattahoochee River National Recreation Area, Bicycle Routes

AGENCY: National Park Service, Interior.

ACTION: Final rule.

SUMMARY: This rule designates certain multi-use pathways in Chattahoochee River National Recreation Area as routes for bicycle use. National Park Service general regulations require promulgation of a special regulation to designate new routes for bicycle use off park roads and outside developed areas. Several segments of multi-use pathways at Chattahoochee River National Recreation Area have been, or are planned to be, constructed to replace eroded social trails with a sustainable trail system. Allowing bicycling on the new trail system improves connectivity to regional trail networks, enhances opportunities for non-motorized enjoyment of the park, and encourages the use of alternate transportation by park visitors and staff.

DATES: The rule is effective April 5, 2013.

FOR FURTHER INFORMATION CONTACT: Rick Slade, Chief of Science and Resource Management, Chattahoochee River National Recreation Area, 1978 Island Ford Parkway, Sandy Springs, GA 30350, (678) 538-1321.

SUPPLEMENTARY INFORMATION:

Background

In 1973, the State of Georgia enacted the Metropolitan River Protection Act (MRPA) to ensure the protection of the corridor located within 2,000 feet of each bank of the Chattahoochee River, or the corridor located within the 100-year floodplain, whichever is larger. Five years after the enactment of the MRPA, the United States Congress found that the:

natural, scenic, recreation, historic, and other values of a forty-eight mile segment of the Chattahoochee River and certain adjoining lands in the State of Georgia from Buford Dam downstream to Peachtree Creek are of special national significance, and that such values should be preserved and protected from developments and uses which would substantially impair or destroy them. (16 U.S.C. 460ii)

On August 15, 1978, President Jimmy Carter signed legislation creating the Chattahoochee River National Recreation Area (CHAT), a unit of the National Park System consisting of “the river and its bed together with the lands, waters, and interests therein. * * *” (16 U.S.C. 460ii). The National Park Service (NPS) is responsible for management of this significant stretch of riverside park.

In 1984, Congress amended CHAT's enabling legislation through Public Law 98-568, which declared the corridor located within 2,000 feet of each bank along the 48-mile river segment “an area of national concern.” A subsequent amendment, passed in 1999, expanded the authorized boundary of CHAT and provided funding to support acquisition of land-based linear corridors to link existing units of the recreation area and to ensure that they are managed to standardize acquisition, planning, design, construction, and operation of the linear corridors. The NPS manages the 48-mile stretch of the Chattahoochee River from top-of-bank to top-of-bank, including all adjacent land elements that occur below the high water mark. The NPS also manages over 5,000 acres of park land, including riverside units and upland forested areas with hiking trails and other recreational opportunities.

In September 2009, the NPS completed a General Management Plan/Environmental Impact Statement (GMP/EIS). Consistent with 36 CFR 4.30, the GMP/EIS states that bicycles are prohibited except on roads, parking areas, and designated routes, noting that this regulation is especially important in light of comments received during the GMP/EIS process from some visitors who view the park corridor as an opportunity to promote non-motorized and less polluting alternatives to automobiles, such as bicycle use. Public comments during the GMP/EIS process also reflected the desire to increase the use of bicycles off-road in the park through development of an interconnected trail system. The final GMP/EIS describes off-road bicycling on trails as an appropriate use in the developed, natural area recreation, and rustic zones.

History of Trail Development

This rule adds a special regulation for CHAT, designating segments of trails in the Vickery Creek, Johnson Ferry South, and Cochran Shoals units as multi-use trails, allowing both pedestrian and bicycle use.

Vickery Creek Unit

In 2001, the City of Roswell planned and constructed a multi-use paved trail along the Chattahoochee River, a portion of which crosses the Vickery Creek unit of CHAT. Pursuant to the National Environmental Policy Act of 1969, the park completed a Categorical Exclusion in 2001 that determined there would be minimal impacts from the approximately 500-foot segment of paved multi-use trail that crosses a portion of the Vickery Creek unit. This trail was constructed prior to the GMP/EIS and was consistent with former park planning zones.

Johnson Ferry South Unit

The January 2010 Proposed Trail Connection Project Environmental Assessment (EA) evaluated projects to improve trail connectivity and sustainability within the Bowmans Island West, Johnson Ferry South, and Cochran Shoals park units, including new bicycle access in the Johnson Ferry South and Cochran Shoals units. The selected alternative in the EA for the Johnson Ferry South unit includes construction of a 0.1 mile segment of new trail to connect the existing multi-use trail on a park administrative road to a planned underpass below the Johnson Ferry Road Bridge. The existing 2.2 mile long trail is located on an old dirt farm roadbed that is currently being used by both pedestrians and bicyclists. The 0.1 mile trail segment will allow bicyclists and pedestrians to connect to an alternative transportation network both within and beyond the park boundary. The new 0.1 mile trail segment will use sustainable design principles including routing along the terrain contours, sloping the trail surface to allow for runoff during rain events, and a natural trail surface. This trail segment was evaluated by the EA, and in March 2010 the park completed a Finding of No Significant Impact (FONSI) which concluded that the selected alternative for the Johnson Ferry South unit will not have a significant adverse effect on the human environment. The Johnson Ferry South unit is zoned in the GMP/EIS as a rustic zone, which identifies off-road bicycling as an appropriate use.

Cochran Shoals Unit

The selected alternative in the EA for the Cochran Shoals unit allows pedestrian-only access on a number of trails, but also incorporates a loop-style multi-use trail for both pedestrians and bicyclists. The project will close and revegetate heavily eroded social trails and construct new trail segments along the terrain contours, with natural and sloping trail surfaces to allow for runoff during rain events, creating a sustainable, aesthetically pleasing trail network. An existing multi-use trail follows an old farm road that is used for park administrative purposes for 2.4 miles, where off-road bicycling is currently allowed. The final trail plan has 3 miles of hiking-only trails and 6.7 miles of multi-use trails allowing both pedestrians and bicycles. Public comments received during scoping overwhelmingly supported expanding access for bicycling in the Cochran Shoals unit.

During the EA process, some public comments raised concerns regarding bicyclists and hikers sharing trails in Cochran Shoals, citing safety and erosion issues. Conflicts between pedestrians and bicyclists are primarily caused by the difference in speeds between the users. Bicyclists can often travel at higher speeds, and the speed differential between bicyclists and pedestrians may reduce the communication between the users, startle pedestrians, and increase the odds of conflict. To minimize the potential for conflict, the Cochran Shoals trail network was designed to create a 6.7 mile loop-style system, rather than an out-and-back style trail, thereby reducing traffic and congestion at any given point on the trail. The new loop-style trail also reduces the number of users that could potentially cut through or create unauthorized trails in order to avoid repetitive scenery. In addition, park management will implement directional traffic on the trails in the Johnson Ferry South and Cochran Shoals units to limit bicycle-pedestrian conflicts. The Superintendent will exercise discretion to temporarily close bicycle access to these trails following a rain event to address issues concerning erosion and water quality impacts that were also raised during the EA process.

The FONSI concluded that the selected alternative for the Cochran Shoals unit will not have a significant adverse effect on the human environment. The Cochran Shoals unit is zoned in the GMP/EIS as a natural area recreation zone, which identifies off-road bicycling as an appropriate use.

Notice of Proposed Rulemaking

On July 10, 2012, the NPS published a Notice of Proposed Rulemaking for the designation of certain multi-use pathways in Chattahoochee River National Recreation Area as routes for bicycle use (77 FR 40547). The proposed rule was available for a 60-day public comment period, from July 10, 2012, through September 10, 2012.

Summary of and Responses to Public Comment

Comments were accepted by email and through the Federal eRulemaking Portal: http://www.regulations.gov. The NPS received 205 public comments during the comment period. Of these responses, all but one expressed clear support for the proposed rule. One of the responses was from an organization, and the rest were from individuals. The organization that responded in support of the proposed rule is the International Mountain Bicycling Association. There were no responses from organizations opposed to the proposed rule.

The NPS received 204 comments in support of the proposed rule. Representative comments include:

1. I support the proposed regulation to allow bicycles on the Sope Creek trails in Chattahoochee River National Recreation area because:

(a) The new trails offer expanded access to bicycles and bring a unique combination of recreational opportunities to an urban area that is starved for more diverse forms of recreation and ways to connect people with natural resources;

(b) Mountain biking is a popular activity with children and will attract a younger demographic to the park, helping to foster a love for outdoors and national parks; and

(c) The Atlanta chapter of the Southern Off-Road Bicycle Association has a long standing commitment to trail maintenance and education at Chattahoochee River National Recreation Area.

2. Outdoor recreation is difficult to find in the metro Atlanta area and often requires a long trip. This is a chance to increase recreational opportunities close to the city, saving gas and time for local residents.

3. I support expanded bicycle use throughout Chattahoochee River National Recreation Area, which will promote outdoor exercise for individuals and families and reduce congestion on trails currently open to bicycling.

4. Implementing directional travel of bicycles can help to limit user conflict and trail erosion.

5. Bicycling is a healthy, family activity and can reduce obesity among adults and children.

6. Expanded opportunities for mountain biking will increase tourism and benefit local economies.

One comment expressed a limited objection to the proposed rule, which is summarized below along with the NPS response.

1. Comment: We are adjacent neighbors to the Sope Creek/Cochran Shoals area and have a view of one of the trails that is proposed to be opened to bicycles. Although bicycles are not currently allowed on the trail, we have observed frequent bicycle use on the trail, which runs down a ridgeline. Cyclists start at the top of the hill and head down the trail at a rapid pace, creating a danger for pedestrians and others at the lower end of the trail. We suggest making bicycle traffic one-way along the trail in the uphill direction, eliminating the potential danger.

Response: The NPS recognizes the potential for conflicts between pedestrians and bicyclists and included language in the proposed rule regarding the implementation of directional traffic for bicycles on the trails in the Cochran Shoals unit. Directional traffic will be implemented on all of the trails included in the loop-style system, which will reduce the potential for congestion and conflict throughout the unit. Specific guidelines for the directional system will be developed and communicated to the public prior to implementation of the new regulation.

Changes From the Proposed Rule

After consideration of the public comments, the park has decided that no changes are necessary in the final rule.

Compliance With Other Laws, Executive Orders and Department Policy Regulatory Planning and Review (Executive Order 12866 and 13563)

Executive Order 12866 provides that the Office of Information and Regulatory Affairs (OIRA) will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.). There are no businesses in the surrounding area economically dependent on bicycle use on these trails. The park does not have any bicycle rental concessioners and the users are mainly private individuals using the trails for recreational purposes. This certification is based on the cost-benefit and regulatory flexibility analysis found in the report entitled “Cost-Benefit and Regulatory Flexibility Analysis: Proposed Regulations for Trail Management in Chattahoochee River National Recreation Area” which can be viewed on the park's planning Web site, http://www.nps.gov/chat/parkmgmt/planning.htm, then clicking on the link entitled “Chattahoochee River Trail Connection Plan.”

Small Business Regulatory Enforcement Fairness Act (SBREFA)

This rule is not a major rule under 5 U.S.C. 804(2), the SBREFA. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (UMRA)

This rule does not impose an unfunded mandate on State, local, or tribal governments or the private sector of more than $100 million per year. The rule does not have a significant or unique effect on State, local or tribal governments or the private sector. It addresses public use of national park lands, and imposes no requirements on other agencies or governments. A statement containing the information required by the UMRA (2 U.S.C. 1531 et seq.) is not required.

Takings (Executive Order 12630)

Under the criteria in section 2 of Executive Order 12630, this rule does not have significant takings implications. A takings implication assessment is not required.

Federalism (Executive Order 13132)

Under the criteria in section 1 of Executive Order 13132, this rule does not have sufficient federalism implications to warrant the preparation of a Federalism summary impact statement. This rule only affects use of NPS administered lands and waters and has no outside effects on other areas. A Federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175)

The Department of the Interior strives to strengthen its government-to-government relationship with Indian Tribes through a commitment to consultation with Indian Tribes and recognition of their right to self-governance and tribal sovereignty. We have evaluated this rule under the Department's consultation policy and under the criteria in Executive Order 13175 and have determined that it has no substantial direct effects on federally recognized Indian tribes and that consultation under the Department's tribal consultation policy is not required. Representatives of the tribes potentially affiliated with CHAT were contacted during the preparation of the EA.

Paperwork Reduction Act (PRA)

This rule does not contain information collection requirements, and a submission under the Paperwork Reduction Act is not required.

National Environmental Policy Act (NEPA)

This rule does not constitute a major Federal action significantly affecting the quality of the human environment. A detailed statement under the NEPA is not required because (i) the selected action for the Vickery Creek unit is covered by a categorical exclusion and (ii) we reached a FONSI for the selected actions for the Johnson Ferry South and Cochran Shoals units. We have also determined that this rule does not involve any of the extraordinary circumstances listed in 43 CFR 46.215 that would require further analysis of the selected action for the Vickery Creek unit under NEPA. A copy of the EA and FONSI can be downloaded from the park's planning Web site, http://www.nps.gov/chat/parkmgmt/planning.htm, then clicking on the link entitled “Chattahoochee River Trail Connection Plan.”

Effects on the Energy Supply (Executive Order 13211)

This rule is not a significant energy action under the definition in Executive Order 13211. A Statement of Energy Effects in not required.

Drafting Information

The primary authors of this regulation were Joel Brumm, Chattahoochee River National Recreation Area, and Jay P. Calhoun, Regulations and Special Park Uses, National Park Service.

List of Subjects in 36 CFR Part 7

National parks, Reporting and recordkeeping requirements.

In consideration of the foregoing, the National Park Service amends 36 CFR part 7 as set forth below:

PART 7—SPECIAL REGULATIONS, AREAS OF THE NATIONAL PARK SYSTEM

1. The authority for part 7 continues to read as follows:

Authority: 16 U.S.C. 1, 3, 9a, 462(k); Sec. 7.96 also issued under 36 U.S.C. 501-511, D.C. Code 10-137 (2001) and D.C. Code 50-2201.07 (2001).

2. Add § 7.90 to read as follows:

§ 7.90 Chattahoochee River National Recreation Area.

(a) Bicycling. (1) Where may I ride a bicycle within Chattahoochee River National Recreation Area? The following routes are designated for bicycle use:

(i) The approximately 500-foot-long segment of paved multi-use trail along the Chattahoochee River located within the boundary of the Vickery Creek unit.

(ii) The approximately 2.2-mile-long multi-use trail in the Johnson Ferry South unit that connects to the bridge underpass at Johnson Ferry Road.

(iii) The approximately 6.7-mile-long loop-style multi-use trail in the Cochran Shoals unit.

(2) Will the routes be identified on the ground? Yes, the three trails will be posted at trail junctions indicating they are open to bicycle use.

(3) Where can I find maps depicting routes designated for bicycle use? Maps depicting designated bicycle routes are available in the office of the Superintendent and online at www.nps.gov/chat/planyourvisit/bike-maps.htm.

(4) How will the Superintendent manage the designated bicycle routes? (i) The Superintendent may open or close designated bicycle routes, or portions thereof, or impose conditions or restrictions for bicycle use after taking into consideration public health and safety, natural and cultural resource protection, carrying capacity and other management activities and objectives.

(ii) Following a rain event, the Superintendent may exercise discretion to temporarily close the trails in the Johnson Ferry South and Cochran Shoals units to mitigate soil erosion and water quality impacts from bicycle use.

(iii) The Superintendent will provide public notice of all such actions through one or more of the methods listed in § 1.7 of this chapter.

(iv) Violating a closure, condition, or restriction is prohibited.

(b) [Reserved]

Dated: February 21, 2013.
Rachel Jacobson,
Principal Deputy Assistant Secretary for Fish and Wildlife and Parks.

[FR Doc. 2013-05250 Filed 3-5-13; 8:45 am]

BILLING CODE 4312-EJ-P